DEPARTMENT OF THE INTERIOR

National Park Service

National Register of Historic Places; Notification of Pending Nominations

Nominations for the following properties being considered for listing in the National Register were received by the National Park Service before September 27, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 14, 2003.

Carol D. Shull,
Keeper of the National Register of Historic Places.

FLORIDA

Baker County

Glen Saint Mary Nurseries Company, 7703 Glen Nursery Rd., Glen St. Mary, 03001111

KENTUCKY

Jefferson County

Struss House, 1920 Winston Ave., Louisville, 03001112

MARYLAND

Anne Arundel County

Owensville Historic District, Owensville Rd. and Owensville-Sudley Rd., Owensville, 03001117

Woodwardville, 937 to 987 Patuxent Rd. and 2811 to 2825 5th Ave., Woodwardville, 03001115

Baltimore County

Stoneleigh Historic District, Roughly bounded by Regester Ave., York Rd., Hatherleigh Rd., and Kenleigh Rd., Towson, 03001113

Montgomery County

Johnson-Wolfe Farm, 23900 Old Hundred Rd., Comus, 03001114

Queen Anne's County

Legg's Dependence, 0200 Long Creek Court, Stevensville, 03001116

MASSACHUSETTS

Hampden County

Springfield Safe Deposit and Trust Company, 127-131 State St., Springfield, 03001118

NEW YORK

Delaware County

West Meredith Cemetery, Cty Rte. 14, West Meredith, 03001119

Franklin County

Brighton Town Hall, 12 Cty Rd. 31, Brighton, 03001121

Sullivan County

Woodbourne Reformed Church Complex, NY 42, Woodbourne, 03001120

PENNSYLVANIA

Chester County

Ker-Feal, 1081 Bodine Rd., Chester Springs, West Pikeland Township, 03001125

Lehigh County

Ehrenhardt, Jacob Jr., House, 55 S. Keystone Ave., Emmanus, 03001123

Montgomery County

Knipe—Moore—Rupp Farm, Hancock, Rd. and Prospect Ave, North Wales, Upper Gwynedd Township, 03001124

Narbrook Park Historic District, Narbrook Rd. and Windsor Ave., Narberth, 03001122

TEXAS

Hays County

Downtown Buda Historic District, Roughly bounded by Elm St., Main St., China St., and Austin St., Buda, 03001126

WASHINGTON

Whatcom County

Immanuel School of Industries—Department of Public Welfare, 1303 Astor St., Bellingham, 03001127

WISCONSIN

Rock County

Hilton House Hotel, 434 E. Grand Ave., Beloit, 03001128

A request for a move has been made for the following resource:

IDAHO

Ada County

Congregation Beth Israel Synagogue, 1102 State St., Boise, 75000432

A request for removal has been made for the following resources:

IOWA

Keokuk County

Delta Covered Bridge, S of Delta off IA 108 across North Skunk River, Delta vicinity, 74000795

Black Hawk County

Crane Creek Bridge (Highway Bridges of Iowa MPS), Marquis Rd. Over Crane Cr., Waterloo vicinity, 98000769

[FR Doc. 03-27299 Filed 10-29-03; 8:45 am]

BILLING CODE 4312-51-P